DEPARTMENT OF LABOR

Employment and Training Administration

[TA-W-40,065]

Haemer-Wright Tool and Die, Inc., Saegertown, Pennsylvania; Notice of Revised Determination on Reopening

On December 4, 2002, the Department, on its own motion, reopened its investigation for the former workers of the subject firm.

The initial investigation resulted in a negative determination issued on December 13, 2001, because the “contributed importantly” test of the Group Eligibility Requirements of the Trade Act was not met for workers at the subject firm. The workers produce tool and die and parts thereof. The denial notice was published in the Federal Register on December 26, 2001 (66 FR 66425).

The Department has obtained new information showing that from 2000 to 2001, a major declining customer of Haemer-Wright Tool And Die, Inc. increased import purchases of tool and die and parts thereof, while reducing purchases from the subject firm.

Conclusion

After careful consideration of the new facts obtained on reopening, it is concluded that increased imports of articles like or directly competitive with the articles produced by Haemer-Wright Tool And Die, Inc., Saegertown, Pennsylvania, contributed importantly to the decline in sales and to the total or partial separation of workers of that firm. In accordance with the provisions of the Trade Act of 1974, I make the following revised determination:

All workers of Haemer-Wright Tool And Die, Inc., Saegertown, Pennsylvania, who became totally or partially separated from employment on or after September 4, 2000, through two years from the date of certification, are eligible to apply for adjustment assistance under section 223 of the Trade Act of 1974.

Signed in Washington, DC this 5th day of December, 2002.
Linda G. Poole,
Certifying Officer, Division of Trade Adjustment Assistance.

[FR Doc. 02-32586 Filed 12-24-02; 8:45 am]

BILLING CODE 4510-30-P